NUCLEAR REGULATORY COMMISSION

[NRC-2010-0170]

Notice of Opportunity for Public Comment on the Proposed Models for Plant-Specific Adoption of Technical Specifications Task Force Traveler TSTF-500, “DC Electrical Rewrite—Update to TSTF-360”

AGENCY: Nuclear Regulatory Commission (NRC).

ACTION: Notice of opportunity for public comment.

SUMMARY: The NRC is requesting public comment on the proposed model application (with model no significant hazards consideration determination) and model safety evaluation (SE) for plant-specific adoption of Technical Specifications Task Force (TSTF) Traveler TSTF-500, Revision 2, “DC Electrical Rewrite—Update to TSTF-360.” The TSTF-500, Revision 2, is available in the Agencywide Documents Access and Management System (ADAMS) under Accession Number ML092670242. The proposed changes modify technical specification (TS) requirements related to direct current (DC) electrical systems in limiting condition for operation (LCO) 3.8.[4], [“DC Sources—Operating,”] LCO 3.8.[5], [“DC Sources—Shutdown,”] and LCO 3.8.[6], [“Battery Parameters.”] A [new or revised] “Battery Monitoring and Maintenance Program” is being proposed for Section [5.5] [“Administrative Controls—Programs and Manuals.”] This proposed model SE will facilitate expedited approval of plant-specific adoption of TSTF-500, Revision 2.

DATES: Comment period expires on June 3, 2010. Comments received after this date will be considered, if it is practical to do so, but the Commission is able to ensure consideration only for comments received on or before this date.

ADDRESSES: You may submit comments by any one of the following methods. Please include Docket ID NRC-2010-0170 in the subject line of your comments. Comments submitted in writing or in electronic form will be posted on the NRC Web site and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2010-0170. Address questions about NRC dockets to Carol Gallagher 301-492-3668; e-mail Carol.Gallagher@nrc.gov.

Mail comments to: Michael T. Lesar, Chief, Rules, Announcements and Directives Branch (RADB), Division of Administrative Services, Office of Administration, Mail Stop: TWB-05-B01M, U.S. Nuclear Regulatory Commission, Washington, DC 20555-0001, or by fax to RADB at 301-492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The proposed model application and SE for plant-specific adoption of TSTF-500, Revision 2, are available electronically under ADAMS Accession Number ML093340412.

Federal Rulemaking Web site: Public comments and supporting materials related to this notice can be found at http://www.regulations.gov by searching on Docket ID: NRC-2010-0170.

FOR FURTHER INFORMATION CONTACT: Ms. Michelle C. Honcharik, Senior Project Manager, Licensing Processes Branch, Mail Stop: O-12 D1, Division of Policy and Rulemaking, Office of Nuclear Reactor Regulation, U.S. Nuclear Regulatory Commission, Washington, DC, 20555-0001; telephone 301-415-1774 or e-mail at michelle.honcharik@nrc.gov. For technical questions please contact Mr. Gerald Waig, Senior Reactor Systems Engineer, Technical Specifications Branch, Division of Inspection and Regional Support, Office of Nuclear Reactor Regulation, U.S. Nuclear Regulatory Commission, Washington, DC 20555-0001; telephone 301-415-2260 or e-mail at gerald.waig@nrc.gov.

SUPPLEMENTARY INFORMATION: This notice provides an opportunity for the public to comment on proposed changes to the standard technical specifications (STS) after a preliminary assessment and finding by the NRC staff that the agency will likely offer the changes for adoption by licensees. This notice solicits comment on a proposed change to the STS, which if implemented by a licensee will modify the plant-specific TS. The NRC staff will evaluate any comments received for the proposed change to the STS and reconsider the change or announce the availability of the change for adoption by licensees. Licensees opting to apply for this TS change are responsible for reviewing the NRC staff's SE, referencing the applicable technical justifications, and providing any necessary plant-specific information. The NRC will process and note each amendment application responding to the notice of availability according to applicable NRC rules and procedures.

TSTF-500, Revision 2, is applicable to all nuclear power reactors. The Traveler modifies the STS requirements related to DC electrical systems.

The NRC staff requests that each licensee applying for the changes proposed in TSTF-500, Revision 2, include in their license amendment request (LAR) letter(s) from battery manufacturer(s) verifying the acceptability of using float current monitoring.

The proposed change does not prevent licensees from requesting an alternate approach or proposing changes other than those proposed in TSTF Traveler-500, Revision 2. However, significant deviations from the approach recommended in this notice or the inclusion of additional changes to the license require additional NRC staff review. This may increase the time and resources needed for the review or result in NRC staff rejection of the LAR. Licensees desiring significant deviations or additional changes should instead submit an LAR that does not claim to adopt TSTF Traveler-500, Revision 2.

Dated at Rockville, Maryland, this 27th day of April 2010.
For the Nuclear Regulatory Commission.
Eric E. Bowman,
Acting Chief, Licensing Processes Branch, Division of Policy and Rulemaking, Office of Nuclear Reactor Regulation.

[FR Doc. 2010-10388 Filed 5-3-10; 8:45 am]

BILLING CODE 7590-01-P